DEPARTMENT OF COMMERCE

Foreign-Trade Zones Board

[B-68-2018]

Foreign-Trade Zone (FTZ) 23—Buffalo, New York; Notification of Proposed Production Activity; Panasonic Eco Solutions Solar New York America, Subzone 23E, (Crystalline Silicon Photovoltaic Cells), Buffalo, New York

Panasonic Eco Solutions Solar New York America (PESSNY) submitted a notification of proposed production activity to the FTZ Board for its facility in Buffalo, New York. The notification conforming to the requirements of the regulations of the FTZ Board (15 CFR 400.22) was received on October 24, 2018.

PESSNY already has authority to produce crystalline silicon photovoltaic (CSPV) solar panels/modules within Subzone 23E. The current request would add a finished product (CSPV cells) to the scope of authority. Pursuant to 15 CFR 400.14(b), additional FTZ authority would be limited to the specific finished product described in the submitted notification and subsequently authorized by the FTZ Board.

Production under FTZ procedures could exempt PESSNY from customs duty payments on the foreign-status materials/components in the existing scope of authority used in export production of CSPV cells. On its domestic sales, for the foreign-status materials/components (primarily silicon wafers and silver paste) in the existing scope of authority (duty rates range between duty-free and 5.8%), PESSNY would be able to choose the duty rate during customs entry procedures that applies to CSPV cells (duty free). PESSNY would be able to avoid duty on foreign-status components which become scrap/waste. Customs duties also could possibly be deferred or reduced on foreign-status production equipment. The request indicates that certain materials/components in the existing scope of authority are subject to special duties under Section 301 of the Trade Act of 1974 (Section 301), depending on the country of origin. The applicable Section 301 decision(s) requires subject merchandise to be admitted to FTZs in privileged foreign status (19 CFR 146.41).

Public comment is invited from interested parties. Submissions shall be addressed to the Board's Executive Secretary at the address below. The closing period for their receipt is December 12, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Diane Finver at Diane.Finver@trade.gov or (202) 482-1367.

Dated: October 29, 2018.
Andrew McGilvray,
Executive Secretary.

[FR Doc. 2018-24015 Filed 11-1-18; 8:45 am]

BILLING CODE 3510-DS-P